DEPARTMENT OF THE INTERIOR

Bureau of Reclamation

[INT-FES-01-40]

Potholes Reservoir Resource Management Plan, Grant County, Washington

AGENCY: Bureau of Reclamation, Interior.

ACTION: Notice of availability of the Potholes Reservoir Resource Management Plan (RMP) final environmental impact statement (FEIS).

SUMMARY: Pursuant to section 102(2)(C) of the National Environmental Policy Act of 1969, as amended, the Department of the Interior, Bureau of Reclamation (Reclamation), has prepared a final environmental impact statement to document the analysis of four alternatives, including the No Action Alternative, for resource management in the Potholes Reservoir Study area. The alternatives respond differently to the issues and concerns identified during project planning. The Preferred Alternative balances the management agencies' and public's long-term vision for Potholes Reservoir and recognizes the need to protect the natural and cultural environment while supporting the overall recreational interest of the visitors. The Preferred Alternative was modified from that in the Draft EIS to incorporate changes resulting from public comments. The major change was to leave a portion of the Yellow Zone open to seasonal Off-Road Vehicle (ORV) use, instead of closing the entire Yellow Zone to such use year-round. The Preferred Alternative was modified to close 919 acres of the 1,459 acre Lower Crab Creek Arm Management Area (Yellow Zone) to motor vehicle travel and ORV use year-round, and to maintain as seasonally open (July 1 to October 1) 540 acres of the 1,459 acre Yellow Zone. The FEIS includes all comment letters received on the Draft EIS and Reclamation's responses to those comments, as well as a summary of the comments from the public hearings.

A Record of Decision (ROD) will be completed no sooner than 30 days after the publication of the Environmental Protection Agency's Notice of Availability of the FEIS in the Federal Register. The ROD will identify the alternative that will be implemented and will discuss factors leading to the decision.

ADDRESSES: Copies of the FEIS are available for public inspection and review at the following locations:

• Bureau of Reclamation, U.S. Department of the Interior, Room 7455, 18th and C Streets, NW., Washington, DC.

• Bureau of Reclamation, Pacific Northwest Regional Office, 1150 North Curtis Road, Suite 100, Boise, Idaho.

• Bureau of Reclamation, Upper Columbia Area Office, 1917 Marsh Road, Yakima, Washington.

• Bureau of Reclamation, Ephrata Field Office, 32 C Street, Ephrata, Washington.

Internet

The FEIS will also be available on the Internet at http://www.pn.usbr.gov/.

FOR FURTHER INFORMATION CONTACT: For information, or to obtain a printed copy or a Summary of the FEIS, contact Mr. Jim Blanchard at (509) 754-0239, extension 226.

SUPPLEMENTARY INFORMATION: The purpose of developing a RMP for Potholes Reservoir is to balance the resource protection and conservation objectives with the rising demand for increased recreation opportunities, visitor facilities, and support services.

Throughout the RMP study process, Reclamation routinely solicited input from the public, agencies, Native Americans, and others with a direct interest in the future management of Potholes Reservoir. Information was diligently gathered through public workshops, interviews with key opinion leaders, and ongoing consultations with local, state and Federal agency personnel. Scoping was initiated in August 1996 with interviews with local chambers of commerce, environmental organizations, local business owners, and sportsman clubs. Initial public scoping meetings were held in Othello and Bellevue, Washington, in September 1996.

Through this early and open scoping process, a wide diversity of RMP issues and concerns were identified. These issues and concerns were summarized in a “Problem Statement” and used to develop the range of RMP alternatives evaluated in this FEIS.

A Draft EIS was released on January 26, 2001, for a 60-day review period which was subsequently extended for an additional 30 days due to public requests. Reclamation conducted two hearings on March 13, 2001, at the Midway Learning Center in Moses Lake, Washington, to hear and record public comments. Approximately 150 people attended the hearings. Of those, 29 individuals made statements for the public record. The comments ranged from concern over mosquito and noxious weed problems to personal watercraft control in the study area. Most comments reflected concern about the proposed limitations of ORV use in the Yellow Zone. This was also the major issue identified in the 112 individual letters received commenting on the FEIS, and especially in the five form letters that were submitted by numerous individuals.

Reclamation conducted agency meetings on May 7, 2001, and June 4, 2001, attended by representatives of the U.S. Fish and Wildlife Service, the Washington Department of Fish and Wildlife, and the Grant County Sheriffs Office. The purpose of the meetings was for the administering agencies to consider modifying proposed acreage reduction of the ORV Yellow Zone, based on the comments received at the public hearings. With agreement from the user groups, agencies, and jurisdictional entities, the Preferred Alternative was modified to reflect year-round closure of 919 acres of the 1,459 acre Lower Crab Creek Arm Management Area (Yellow Zone) to motor vehicle travel and ORV use, and to maintain 540 acres of the 1,459 acre Yellow Zone as seasonally open (July 1 to October 1).

Dated: November 19, 2001.
J. William McDonald,
Regional Director, Pacific Northwest Region.

[FR Doc. 01-30667 Filed 12-11-01; 8:45 am]

BILLING CODE 4310-MN-P